DEPARTMENT OF COMMERCE

National Oceanic and Atmospheric Administration

[RTID 0648-XB545]

Fisheries of the Exclusive Economic Zone off Alaska; North Pacific Halibut and Sablefish Individual Fishing Quota Cost Recovery Program

AGENCY: National Marine Fisheries Service (NMFS); National Oceanic and Atmospheric Administration (NOAA), Commerce.

ACTION: Notice of standard prices and fee percentage.

SUMMARY: NMFS publishes the individual fishing quota (IFQ) standard prices and fee percentage for cost recovery for the IFQ Program for the halibut and sablefish fisheries of the North Pacific (IFQ Program). The fee percentage for 2021 is 2.3 percent. This action is intended to provide holders of halibut and sablefish IFQ permits with the 2021 standard prices and fee percentage to calculate the required payment for IFQ cost recovery fees due by January 31, 2022.

DATES: The standard prices and fee percentages are valid on December 29, 2021.

FOR FURTHER INFORMATION CONTACT: Charmaine Weeks, Fee Coordinator, 907-586-7231.

SUPPLEMENTARY INFORMATION:

Background

NMFS Alaska Region administers the IFQ Program in the North Pacific. The IFQ Program is a limited access system authorized by the Magnuson-Stevens Fishery Conservation and Management Act (Magnuson-Stevens Act) and the Northern Pacific Halibut Act of 1982 (Halibut Act). Fishing under the IFQ Program began in March 1995. Regulations implementing the IFQ Program are set forth at 50 CFR part 679.

In 1996, the Magnuson-Stevens Act was amended to, among other purposes, require the Secretary of Commerce to “collect a fee to recover the actual costs directly related to the management and enforcement of any . . . individual quota program.” This requirement was further amended in 2006 to include collection of the actual costs of data collection and to replace the reference to “individual quota program” with a more general reference to “limited access privilege program” at § 304(d)(2)(A) of the Act. Section 304(d)(2) of the Magnuson-Stevens Act also specifies an upper limit on these fees, when the fees must be collected, and where the fees must be deposited.

On March 20, 2000, NMFS published regulations at § 679.45 to implement cost recovery for the IFQ Program (65 FR 14919). Under the regulations, an IFQ permit holder must pay a cost recovery fee for every pound of IFQ halibut and sablefish that is landed on their IFQ permit(s). The IFQ permit holder is responsible for self-collecting the fee for all IFQ halibut and sablefish landings on their permit(s). The IFQ permit holder is also responsible for submitting IFQ fee payments(s) to NMFS on or before January 31 of the year following the year in which the IFQ landings were made. The total dollar amount of the fee is determined by multiplying the NMFS published fee percentage by the ex-vessel value of all IFQ landings made on the permit(s) during the IFQ fishing year. As required by § 679.45(d)(1) and (d)(3)(i), NMFS publishes this notice of the fee percentage for the IFQ halibut and sablefish fisheries in the Federal Register during or prior to the last quarter of each year.

Standard Prices

The fee is based on the sum of all payments made to fishermen for the sale of the fish during the year. This includes any retro-payments (e.g., bonuses, delayed partial payments, post-season payments) made to the IFQ permit holder for previously landed IFQ halibut or sablefish.

For purposes of calculating IFQ cost recovery fees, NMFS distinguishes between two types of ex-vessel value: Actual and standard. Actual ex-vessel value is the amount of all compensation, monetary or non-monetary, that an IFQ permit holder received as payment for his or her IFQ fish sold. Standard ex-vessel value is the default value used to calculate the fee. IFQ permit holders have the option of using actual ex-vessel value if they can satisfactorily document it; otherwise, the standard ex-vessel value is used.

Section 679.45(b)(3)(iii) requires the Regional Administrator to publish IFQ standard prices during the last quarter of each calendar year. These standard prices are used, along with estimates of IFQ halibut and IFQ sablefish landings, to calculate standard ex-vessel values. The standard prices are described in U.S. dollars per IFQ equivalent pound for IFQ halibut and IFQ sablefish landings made during the year. According to § 679.2, IFQ equivalent pound(s) means the weight amount, recorded in pounds, and calculated as round weight for sablefish and headed and gutted weight for halibut, for an IFQ landing. The weight of halibut in pounds landed as guided angler fish is converted to IFQ equivalent pound(s) as specified in § 300.65(c)(5)(ii)(E). NMFS calculates the standard prices to closely reflect the variations in the actual ex-vessel values of IFQ halibut and IFQ sablefish landings by month and port or port-group. The standard prices for IFQ halibut and IFQ sablefish are listed in the tables that follow the next section. Data from ports are combined as necessary to protect confidentiality.

Fee Percentage

NMFS calculates the fee percentage each year according to the factors and methods described at § 679.45(d)(2). NMFS determines the fee percentage that applies to landings made in the previous year by dividing the total costs directly related to the management, data collection, and enforcement of the IFQ Program (management costs) during the previous year by the total standard ex-vessel value of halibut and sablefish IFQ landings made during the previous year (fishery value). NMFS captures the actual management costs associated with certain management, data collection, and enforcement functions through an established accounting system that allows staff to track labor, travel, contracts, rent, and procurement. NMFS calculates the fishery value as described under the section Standard Prices.

Using the fee percentage formula described above, the percentage of management costs to fishery value for the 2021 calendar year is 2.3 percent of the standard ex-vessel value. An IFQ permit holder is to use the fee percentage of 2.3 percent to calculate their fee for IFQ equivalent pound(s) landed during the 2021 halibut and sablefish IFQ fishing season. An IFQ permit holder is responsible for submitting the 2021 IFQ fee payment to NMFS on or before January 31, 2022. Payment must be made in accordance with the payment methods set forth in § 679.45(a)(4)(iv). Payment can be made using credit card, debit card, or electronic check via the pay.gov program. NMFS does not accept credit card information by phone or in-person for fee payments.

The 2021 fee percentage of 2.3 percent is less than the 2020 fee percentage of 3.0 percent (85 FR 82442, December 18, 2020). Between 2020 and 2021 there was a net decrease in management costs and a net increase in fishery value. Management costs decreased by approximately 10 percent while fishery value increased by approximately 66 percent. The net increase in value was due to higher ex-vessel prices and landings for both halibut and sablefish IFQ fisheries.

Table 1—Registered Buyer Standard Ex-Vessel Prices by Landing Location for the 2021 IFQ Season ¹
Landing location | Period ending | Halibut standard EX vessel price | Sablefish standard EX vessel price
HOMER
| March 31 | 5.73
| April 30 | 5.99 | 1.95
| May 31 | 6.07 | 1.89
| June 30 | 6.73 | 1.82
| July 31 | 7.70 | 1.84
| August 31 | 6.97 | 1.70
| September 30 | 7.20 | 2.19
| October 31 | 7.20 | 2.19
| November 30 | 7.20 | 2.19
| December 31 | 7.20 | 2.19
KETCHIKAN
| March 31
| April 30 | 5.84
| May 31 | 6.18
| June 30 | 6.10
| July 31
| August 31
| September 30 | 6.78
| October 31 | 6.78
| November 30 | 6.78
| December 31 | 6.78
KODIAK
| March 31 | 5.28
| April 30 | 5.49 | 1.55
| May 31 | 5.68 | 1.60
| June 30 | 6.03 | 1.76
| July 31 | 6.28 | 1.92
| August 31 | 6.32 | 1.78
| September 30 | 6.48 | 1.88
| October 31 | 6.48 | 1.88
| November 30 | 6.48 | 1.88
| December 31 | 6.48 | 1.88
PETERSBURG
| March 31
| April 30 | 5.66
| May 31 | 5.77
| June 30 | 6.40
| July 31 | 6.63
| August 31 | 6.59
| September 30 | 6.84
| October 31 | 6.84
| November 30 | 6.84
| December 31 | 6.84
SEWARD
| March 31 |  | 1.76
| April 30 | 6.03 | 1.58
| May 31 | 6.09 | 1.68
| June 30
| July 31 | 7.32
| August 31
| September 30
| October 31
| November 30
| December 31
SITKA
| March 31 | 5.59 | 2.02
| April 30 | 5.77 | 2.08
| May 31 | 5.62 | 2.24
| June 30 | 6.07 | 2.33
| July 31 | 6.74
| August 31 | 6.50 | 2.01
| September 30 | 6.65 | 2.26
| October 31 | 6.65 | 2.26
| November 30 | 6.65 | 2.26
| December 31 | 6.65 | 2.26
PORT GROUP BERING SEA ²
| March 31
| April 30
| May 31 | 5.02 | 1.77
| June 30 | 5.35 | 1.70
| July 31 | 5.56 | 1.57
| August 31 | 5.79 | 2.00
| September 30 | 5.96 | 1.85
| October 31 | 5.96 | 1.85
| November 30 | 5.96 | 1.85
| December 31 | 5.96 | 1.85
PORT GROUP CENTRAL GOA ³
| March 31 | 5.64 | 1.68
| April 30 | 5.89 | 1.54
| May 31 | 5.95 | 1.63
| June 30 | 6.38 | 1.75
| July 31 | 7.25 | 1.79
| August 31 | 6.85 | 2.07
| September 30 | 7.20 | 1.92
| October 31 | 7.20 | 1.92
| November 30 | 7.20 | 1.92
| December 31 | 7.20 | 1.92
PORT GROUP SE ALASKA ⁴
| March 31 | 5.65 | 2.01
| April 30 | 5.79 | 1.88
| May 31 | 5.80 | 2.07
| June 30 | 6.12 | 2.08
| July 31 | 6.69 | 1.99
| August 31 | 6.60 | 1.98
| September 30 | 6.73 | 2.19
| October 31 | 6.73 | 2.19
| November 30 | 6.73 | 2.19
| December 31 | 6.73 | 2.19
ALL-ALASKA ⁵
| March 31 | 5.64 | 1.95
| April 30 | 5.83 | 1.68
| May 31 | 5.82 | 1.78
| June 30 | 6.17 | 1.84
| July 31 | 6.59 | 1.78
| August 31 | 6.48 | 2.03
| September 30 | 6.86 | 2.03
| October 31 | 6.86 | 2.03
| November 30 | 6.86 | 2.03
| December 31 | 6.86 | 2.03
ALL ⁵
| March 31 | 5.64 | 1.95
| April 30 | 5.83 | 1.68
| May 31 | 5.82 | 1.78
| June 30 | 6.17 | 1.84
| July 31 | 6.59 | 1.78
| August 31 | 6.51 | 2.03
| September 30 | 6.86 | 2.03
| October 31 | 6.86 | 2.03
| November 30 | 6.86 | 2.03
| December 31 | 6.86 | 2.03
1. Note: In many instances, prices are not shown in order to comply with confidentiality guidelines when there are fewer than three processors operating in a location during a month. Additionally, landings at different harbors in the same general location (e.g., “Juneau, Douglas, and Auke Bay”) have been combined to report landings to the main port (e.g., “Juneau”).
2. Landing Locations Within Port Group—Bering Sea: Akutan, Dillingham, Dutch Harbor/Unalaska, King Cove, King Salmon, Naknek, Nome, Savoonga, St. Lawrence Island, St. Paul, Togiak.
3. Landing Locations Within Port Group—Central Gulf of Alaska: Alitak, Cordova, Homer, Kenai, Kodiak, Sand Point, Seward, Valdez, Whittier.
4. Landing Locations Within Port Group—Southeast Alaska: Craig, Elfin Cove, Haines, Hoonah, Juneau, Kake, Ketchikan, Pelican, Petersburg, Port Alexander, Sitka, Wrangell, Yakutat.
5. Landing Locations Within Port Group—All: For Alaska: All landing locations included in 2, 3, and 4. For Washington: Bellingham, Seattle.

Authority: 16 U.S.C. 1801 et seq.

Dated: December 23, 2021.
Peter Cooper,
Acting Director, Office of Sustainable Fisheries, National Marine Fisheries Service.

[FR Doc. 2021-28292 Filed 12-28-21; 8:45 am]

BILLING CODE 3510-22-P